DEPARTMENT OF THE TREASURY

Submission for OMB Review; Comment Request

May 16, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 20, 2007 to be assured of consideration.

Internal Revenue Service (IRS)

OMB Number: 1545-1729.

Type of Review: Extension.

Title: TD 9114 (Final) Electronic Payee Statements.

Description: In general, under these regulations, a person required to furnish a statement on Form W-2 under Code sections 6041(d) or 6051, or Forms 1098-T or 1098-E under Code section 6050S, may furnish these statements electronically if the recipient consents to receive them electronically, and if the person furnishing the statement (1) makes certain disclosures to the recipient, (2) annually notifies the recipient that the statement is available on a Web site, and (3) provides access to the statement on that Web site for a prescribed period of time.

Respondents: Businesses and other for-profit institutions.

Estimated Total Burden Hours: 2,844,950 hours.

OMB Number: 1545-1625.

Type of Review: Extension.

Title: REG-105170-97 and REG-112991-01, (Final) Credit for Increasing Research Activities (TD 8930 & TD 9104).

Description: These final regulations relate to the computation of the credit under section 41(c) and the definition of qualified research under section 41(d). These regulations are intended to provide (1) guidance concerning the requirements necessary to qualify for the credit for increasing research activities, (2) guidance in computing the credit for increasing research activities, and (3) rules for electing and revoking the election of the alternative incremental credit.

Respondents: Businesses and other for-profit institutions.

Estimated Total Burden Hours: 250 hours.

OMB Number: 1545-0720.

Type of Review: Extension.

Title: Form 8038, Information Return for Tax-Exempt Private Activity Bond Issues, Form 8038-G, Information Return for Tax-Exempt Governmental Obligation, and Form 8038-GC, Information Return for Tax-Exempt Private Activity Bond Issues.

Form: 8038, 8038-G, and 8038-GC.

Description: Forms 8038, 8038-G, and 8038-GC collect the information that IRS is required to collect by Code section 149(e). IRS uses the information to assure that tax-exempt bonds are issued consistent with the rules of IRC sections 141-149.

Respondents: State, Local, and Tribal Governments.

Estimated Total Burden Hours: 293,900 hours.

OMB Number: 1545-2042.

Type of Review: Extension.

Title: IRS e-file Signature Authorization for Form 1065.

Form: 8879-PE.

Description: Form 8879-PE, IRS e-file Signature Authorization for Form 1065, was developed for Modernized e-file for partnerships.

Respondents: Businesses and other for-profit institutions.

Estimated Total Burden Hours: 2,025 hours.

OMB Number: 1545-0735.

Type of Review: Extension.

Title: LR-189-80 (TD 7927) Final Amortization of Reforestation Expenditures

Description: Section 194 allows taxpayers to elect to amortize certain reforestation expenditures over a 7-year period if the expenditures meet certain requirements. The regulations implement this election provision and allow the Service to determine if the election is proper and allowable.

Respondents: Individuals or households.

Estimated Total Burden Hours: 6,001 hours.

OMB Number: 1545-0232.

Type of Review: Extension.

Title: Information Return of Nontaxable Energy Grants or Subsidized Energy Financing.

Form: 6497.

Description: Used by any governmental agency or its agents that make nontaxable grants or subsidized financing for energy conservation or production programs. We use the information from the form to ensure that recipients have not claimed tax credits or other benefits with respect to the grant or subsidized financing (no “double dipping”).

Respondents: Businesses and other for-profit institutions.

Estimated Total Burden Hours: 810 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-9705 Filed 5-18-07; 8:45 am]

BILLING CODE 4830-01-P